DEPARTMENT OF DEFENSE

Department of the Army

[Docket ID: USA-2008-0060]

Privacy Act of 1974; System of Records

AGENCY: Department of the Army, DoD.

ACTION: Notice to delete two systems of records.

SUMMARY: The Department of the Army is deleting two systems of records in its existing inventory of record systems subject to the Privacy Act of 1974, (5 U.S.C. 552a), as amended.

DATES: These proposed actions will be effective without further notice on October 14, 2008 unless comments are received which result in a contrary determination.

ADDRESSES: Send comments to the Department of the Army, Records Management and Declassification Agency, Privacy Division, 7701 Telegraph Road, Alexandria, VA 22315.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The Department of the Army proposes to delete two systems of records from its inventory of record systems subject to the Privacy Act of 1974 (5 U.S.C. 552a), as amended. The proposed deletions are not within the purview of subsection (r) of the Privacy Act of 1974 (5 U.S.C. 552a), as amended, which requires the submission of new or altered systems reports.

Dated: September 3, 2008.
Patricia L. Toppings,
OSD Federal Register Liaison Officer, Department of Defense.

A0027-3 SAFM

System name:

Pecuniary Charge Appeal Files (February 22, 1993, 58 FR 10002).

Reason:

These records are covered under notice A0027-20a DAJA, U.S. Army Claims Service Management Information System (August 1, 2008, 73 FR 44974).

A0037-103c SAFM

System name:

Validation Files (February 22, 1993, 58 FR 10002)

Reason:

These records are covered under notice T7340, Defense Joint Military Pay System-Active Component (March 21, 2006, 71 FR 14179).

[FR Doc. E8-21085 Filed 9-10-08; 8:45 am]

BILLING CODE 5001-06-P